FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

Total Transport International Corp., 1031 W. Manchester Blvd., Unit F, Inglewood, CA 90301. Officers: Dennis Shui, Vice President, (Qualifying Individual), Miller Lung Lee, Chairman

Arron Shipping, 300 Davey Glen Road, Suite 3429, Belmont, CA 94002. Officers: Michael Choo, Vice President, (Qualifying Individual), Jesse J. Lu, President

Embassy Freight, LLC, 220 B McClellan Highway, East Boston, MA 02128. Officers: Lynda N. Cloutier, Vice President, (Qualifying Individual), Ales Michalec, President

Dated: August 24, 2000.
Theodore A. Zook,
Assistant Secretary.

[FR Doc. 00-22190 Filed 8-29-00; 8:45 am]

BILLING CODE 6730-01-P